DEPARTMENT OF COMMERCE

International Trade Administration

Export Trade Certificate of Review

ACTION: Notice of Issuance of an Export Trade Certificate of Review, Application No. 04-00002.

SUMMARY: The Department of Commerce has issued an Export Trade Certificate of Review to the Export Trade Association of the Americas (“ETAA”). This notice summarizes the conduct for which certification has been granted.

FOR FURTHER INFORMATION CONTACT: Jeffrey Anspacher, Director, Export Trading Company Affairs, International Trade Administration, by telephone at (202) 482-5131 (this is not a toll-free number), or by E-mail at oetca@ita.doc.gov.

SUPPLEMENTARY INFORMATION: Title III of the Export Trading Company Act of 1982 (15 U.S.C. 4011-21) authorizes the Secretary of Commerce to issue Export Trade Certificates of Review. The regulations implementing Title III are found at 15 CFR Part 325 (2004).

Export Trading Company Affairs is issuing this notice pursuant to 15 CFR 325.6(b), which requires the Department of Commerce to publish a summary of the Certification in the Federal Register. Under Section 305(a) of the Act and 15 CFR 325.11(a), any person aggrieved by the Secretary's determination may, within 30 days of the date of this notice, bring an action in any appropriate district court of the United States to set aside the determination on the ground that the determination is erroneous.

Description of Certified Conduct

I. Export Trade

A. Products

Fresh tree fruits, primarily apples.

B. Technology Rights

Technology Rights, including, but not limited to, patents, trademarks, copyrights and trade secrets owned and/or controlled by ETAA and Members that relate to Products.

C. Export Trade Facilitation Services (as They Relate to the Export of Products, and Technology Rights)

All export trade-related services, including, but not limited to, professional services and assistance relating to: government relations; state and federal export programs; foreign trade and business protocol; consulting; international market research and analysis; collection of information on trade opportunities; marketing; negotiations; joint ventures; brokering; handling; export management; export licensing; patent and trademark licensing; common marking and identification; advertising and sales promotion; communication and processing of foreign orders to and for Members; trade documentation and services related to compliance with customs requirements; insurance and financing; trade show exhibitions; organizational development; management and labor strategies; transfer of technology; transportation services, including shipping and warehousing; the formation of shippers' associations; legal assistance; foreign exchange and taking title to goods.

II. Export Markets

The Export Markets include all parts of the world except the United States (the fifty states of the United States, the District of Columbia, the Commonwealth of Puerto Rico, the Virgin Islands, American Samoa, Guam, the Commonwealth of the Northern Mariana Islands, and the Trust Territory of the Pacific Islands).

III. Members (Within the Meaning of Section 325.2(l) of the Regulations)

E. W. Brandt & Sons, Inc., Wapato, Washington; and ETAA Distributing, LLC, Wapato, Washington.

IV. Export Trade Activities and Methods of Operation

With respect to the export sale of fresh tree fruits, the licensing of Technology Rights, and the provision of Export Trade Facilitation Services, ETAA and/or one or more Members may:

1. Participate in negotiations and enter into agreements with foreign buyers (including governments and private persons) regarding:

(a) The quantities, time periods, prices, and terms and conditions, in connection with actual or potential bona fide export opportunities;

(b) non-tariff trade barriers in the Export Markets; and

(c) the sale, license and/or use of Technology Rights relating to the Products.

2. Advise and cooperate with the United States and foreign governments in:

(a) Establishing procedures pertaining to the regulating of the export of the Member's Products. For example: Quantity standards, marketing orders, and the imposition and lifting of tariffs; and

(b) Fulfilling the phytosanitary, quality and/or funding requirements pertaining to the export of the Member's Products. For example: Tariffs, weighing fees and inspections imposed by foreign governments.

3. Allocate export sales among Members in connection with actual or potential bona fide export opportunities.

4. Agree on quantities of Products to be sold.

5. Allocate geographic areas or countries in Export Markets and/or customers in Export Markets among Members.

6. Conduct marketing, promotion and distribution of fresh tree fruits in Export Markets.

7. Conduct quality control studies and inspections of goods for export at point of shipment, point of arrival, and through the retail level in Export Markets.

8. Negotiate and enter into agreements, whether or not exclusive, with providers of Export Trade Facilitation Services for the export of Products.

9. Establish and operate fumigation facilities and administer phytosanitary protocols to qualify the Products for Export Markets.

10. Operate foreign offices and companies to facilitate the sale and distribution of fresh tree fruits in Export Markets.

11. Recover administrative expenses and costs through fees and assessments allocated to each Member on a pro rata share basis or any other non-discriminatory method. Any Member objecting to the method of allocating expenses and costs will be charged based on actual expenses incurred.

12. Products to be exported will be primarily supplied by the ETAA and Members, with instances of Products supplied from non-Member entities. For example: To fill export sales orders, contracts and spot sales, as required.

13. ETAA and Members may exchange and discuss information on the following:

(a) Information about sales and marketing efforts for the Export Markets, activities and opportunities for sales of fresh tree fruits in the Export Markets, selling strategies for the Export Markets, sales for the Export Markets, contract and spot pricing in the Export Markets, projected demands in Export Markets for fresh tree fruits, customary terms of sale in the Export Markets, prices and availability of fresh tree fruits from competitors for sale in the Export Markets, and specifications for fresh tree fruits by customers in the Export Markets;

(b) Information about the export price, quality, quantity, source, and delivery dates of fresh tree fruits available from the Members to export;

(c) Information about terms and conditions of contracts for sale in the Export Markets to be considered and/or bid on by ETAA and Members;

(d) Information about joint bidding or selling arrangements for the Export Markets and allocations of sales resulting from such arrangements among the Members;

(e) Information about expenses specific to exporting to and within the Export Markets, including without limitation, transportation, trans- or intermodal shipments, insurance, in-land freights to port, port storage, commissions, export sales, documentation, financing, customs duties and taxes;

(f) Information about United States and foreign legislation and regulations, including Federal marketing order programs that may affect sales for the Export Markets;

(g) Information about ETAA or Members' export operations, including without limitation, sales and distribution networks established by ETAA or Members in the Export Markets, and prior export sales by Members (including export price information);

(h) Exchange information with and among the Members as necessary to carry out the Export Trade Facilitation Services, Export Trade Activities and Methods of Operation; and

(i) Information about export customer credit terms and credit history.

A copy of this certificate will be kept in the International Trade Administration's Freedom of Information Records Inspection Facility, Room 4001, U.S. Department of Commerce, 14th Street and Constitution Avenue, NW., Washington, DC 20230.

Dated: October 26, 2004.
Jeffrey Anspacher,
Director, Export Trading Company Affairs.

[FR Doc. E4-2943 Filed 10-29-04; 8:45 am]

BILLING CODE 3510-DR-P